OFFICE OF PERSONNEL MANAGEMENT

5 CFR Part 532

RIN 3206-AK94

Prevailing Rate Systems; North American Industry Classification System Based Federal Wage System Wage Surveys

AGENCY: Office of Personnel Management.

ACTION: Final rule.

SUMMARY: The Office of Personnel Management is issuing a final rule to replace the Standard Industrial Classification codes currently used in Federal Wage System regulations with the more recent North American Industry Classification System codes, published by the Office of Management and Budget. The purpose of this change is to update the wage survey industry regulations by adopting the new classification system.

DATES: Effective date: This rule is effective on July 20, 2006.

Applicability date: This rule applies for local wage surveys beginning on or after November 1, 2006.

FOR FURTHER INFORMATION CONTACT: Mark Allen, (202) 606-2838; e-mail pay-performance-policy@opm.gov; or FAX: (202) 606-4264.

SUPPLEMENTARY INFORMATION: On November 16, 2005, the Office of Personnel Management (OPM) issued a proposed rule (70 FR 69467) to replace all Standard Industrial Classification (SIC) codes in the Federal Wage System (FWS) regulations with the most closely corresponding North American Industry Classification System (NAICS) codes. Adopting the NAICS system will update the FWS wage survey industry regulations, while making as few changes as possible in the types of industrial establishments already included in FWS wage surveys under the SIC system. These regulations use 2002 NAICS codes. As the Office of Management and Budget updates the NAICS periodically, we will update these regulations to correspond to the updated NAICS codes based on advice we receive from the Federal Prevailing Rate Advisory Committee.

The proposed rule had a 30-day public comment period, during which OPM received no comments. However, the final rule incorporates some formatting changes in the industry charts to improve consistency and readability, and three additional minor changes that are consistent with the intent of the proposed rule. First, section 532.313(b) of title 5, Code of Federal Regulations, limits special job coverage to Automotive Mechanic, Engine Mechanic, and Heavy Mobile Equipment Mechanic only in certain industries included in surveys concerning the Artillery and Combat Vehicles specialized industry, not in all of the specialized industries, as was originally proposed. Second, the four SIC codes in section 532.223(a) have been converted to comparable NAICS codes. We inadvertently overlooked this section in the proposed rule. Third, we are adding NAICS 5175, Cable and other program distribution, to the communications specialized industry in section 532.313 to better match NAICS wage survey industry coverage to the industry coverage of the SIC system. We inadvertently overlooked this industry in the proposed rule.

This final regulation is effective 30 days after publication. However, to provide the lead agency (the Department of Defense) with sufficient time and a fixed date for planning surveys and implementing changes required by the new industry classification system, the regulation is applicable for wage surveys ordered to begin on or after November 1, 2006.

Regulatory Flexibility Act

I certify that these regulations will not have a significant economic impact on a substantial number of small entities because they will affect only Federal agencies and employees.

E.O. 12866, Regulatory Review

The Office of Management and Budget has reviewed this final rule in accordance with Executive Order 12866.

List of Subjects in 5 CFR Part 532

Administrative practice and procedure, Freedom of information, Government employees, Reporting and recordkeeping requirements, Wages.

Office of Personnel Management.
Linda M. Springer,
Director.

Accordingly, the Office of Personnel Management is amending 5 CFR part 532 as follows:

PART 532—PREVAILING RATE SYSTEMS

1. The authority citation for part 532 continues to read as follows:

Authority: 5 U.S.C. 5343, 5346; § 532.707 also issued under 5 U.S.C. 552.

Subpart B—Prevailing Rate Determinations

2. In § 532.213, revise paragraph (a) to read as follows:

§ 532.213 Industries included in regular appropriated fund wage surveys.

(a) The lead agency must include the industries in the following North American Industry Classification System (NAICS) codes in all regular appropriated fund wage surveys:

2002 NAICS codes | 2002 NAICS industry titles
311 through 339 (except 323) | All manufacturing classes except printing and related support activities (NAICS 323).
221 | Utilities.
481 | Air transportation.
482 | Rail transportation.
484 | Truck transportation.
485 (except 4853) | Transit and ground passenger transportation except taxi and limousine service (NAICS 4853).
487 (except 4872) | Scenic and sightseeing transportation except scenic and sightseeing transportation, water (NAICS 4872).
488 (except 4883 and 4884) | Support activities for transportation except support activities for water transportation (NAICS 4883) and support activities for road transportation (NAICS 4884).
492 | Couriers and messengers.
493 | Warehousing and storage.
515 | Broadcasting (except Internet).
517 | Telecommunications.
5621 | Waste collection.
5622 | Waste Treatment and Disposal.
423 | Merchant wholesalers, durable goods.
424 | Merchant wholesalers, nondurable goods.

* * * * *

3. In § 532.221, revise paragraph (a) to read as follows:

§ 532.221 Industries included in regular nonappropriated fund surveys.

(a) The lead agency must include the following North American Industry Classification System (NAICS) codes in all regular nonappropriated fund wage surveys:

2002 NAICS codes | 2002 NAICS industry titles
42312 | Motor vehicle supplies and new parts merchant wholesalers.
4232 | Furniture and home furnishing merchant wholesalers.
42362 | Electrical and electronic appliance, television, and radio set merchant wholesalers.
42369 | Other electronic parts and equipment merchant wholesalers.
42371 | Hardware merchant wholesalers.
42391 | Sporting and recreational goods and supplies merchant wholesalers.
42399 | Other miscellaneous durable goods merchant wholesalers.
4241 | Paper and paper product merchant wholesalers.
42421 | Drugs and druggists' sundries merchant wholesalers.
4243 | Apparel, piece goods, and notions merchant wholesalers.
42445 | Confectionery merchant wholesalers.
4247 | Petroleum and petroleum products merchant wholesalers.
4249 | Miscellaneous nondurable goods merchant wholesalers.
44132 | Tire dealers.
44311 | Appliance, television, and other electronic stores.
44411 | Home centers.
44611 | Pharmacies and drug stores.
4471 | Gasoline stations.
44814 | Family clothing stores.
4521 | Department stores.
45299 | All other general merchandise stores.
45321 | Office supplies and stationery stores.
4542 | Vending machine operators.
71391 | Golf courses and country clubs.
71395 | Bowling centers.
72111 | Hotels (except casino hotels) and motels.
7221 | Full-service restaurants.
7222 | Limited-service eating places.
7224 | Drinking places (alcoholic beverages).

* * * * *

4. In § 532.223, revise paragraph (a) to read as follows:

§ 532.223 Establishments included in regular nonappropriated fund surveys.

(a) All establishments having 20 or more employees in the prescribed industries within a survey area must be included in the survey universe. Establishments in NAICS codes 4471, 4542, 71391, and 71395 must be included in the survey universe if they have eight or more employees.

* * * * *

5. In § 532.267, revise paragraph (c)(1) to read as follows:

§ 532.267 Special wage schedules for aircraft, electronic, and optical instrument overhaul and repair positions in the Puerto Rico wage area.

* * * * *

(c) * * *

(1) Surveys must, at a minimum, include the air transportation and electronics industries in the following North American Industry Classification System (NAICS) codes:

2002 NAICS codes | 2002 NAICS industry titles
3341 | Computer and peripheral equipment manufacturing.
33422 | Radio and television broadcasting and wireless communications equipment manufacturing.
33429 | Other communications equipment manufacturing.
3343 | Audio and video equipment manufacturing.
334412 | Bare printed circuit board manufacturing.
334413 | Semiconductor and related device manufacturing.
334418 | Printed circuit assembly (electronic assembly) manufacturing.
334419 | Other electronic component manufacturing.
334511 | Search, detection, navigation, guidance, aeronautical, and nautical system and instrument manufacturing.
334613 | Magnetic and optical recording media manufacturing.
42342 | Office equipment merchant wholesalers.
42343 | Computer and computer peripheral equipment and software merchant wholesalers.
4811 | Scheduled air transportation.
4812 | Nonscheduled air transportation.
4879 | Scenic and sightseeing transportation, other.
4881 | Support activities for air transportation.
4921 | Couriers.
56172 | Janitorial services.
62191 | Ambulance services.
81142 | Reupholstery and furniture repair.

* * * * *

6. In § 532.279, revise paragraphs (c), introductory text, and (c)(1) to read as follows:

§ 532.279 Special wage schedules for printing positions.

* * * * *

(c) The lead agency must establish survey specifications for the printing survey as follows:

(1) The lead agency must include North American Industry Classification System (NAICS) codes 323110 and 323114 in the printing survey and may add other NAICS codes in subsector 323 to the survey based on its survey experience.

* * * * *

7. In § 532.285, revise paragraph (c)(1) to read as follows:

§ 532.285 Special wage schedules for supervisors of negotiated rate Bureau of Reclamation employees.

* * * * *

(c) * * *

(1) Based on Bureau of Reclamation activities and types of supervisory positions in the special wage area, the Bureau of Reclamation must survey private industry companies, with no minimum employment size requirement for establishments, in the following North American Industry Classification System code subsectors:

2002 NAICS codes | 2002 NAICS industry titles
211 | Oil and gas extraction.
212 | Mining (except oil and gas).
213 | Support activities for mining.
221 | Utilities.
333 | Machinery manufacturing.
334 | Computer and electronic product manufacturing.
335 | Electrical equipment, appliance, and component manufacturing.
484 | Truck transportation.
492 | Couriers and messengers.
493 | Warehousing and storage.
515 | Broadcasting (except Internet).
517 | Telecommunications.
562 | Waste management and remediation services.
811 | Repair and maintenance.

* * * * *

8. Revise § 532.313 to read as follows:

§ 532.313 Private sector industries.

(a) For appropriated fund surveys, the lead agency must use the private sector industries in the following North American Industry Classification System (NAICS) codes when it makes its wage schedule determinations for each specialized Federal industry:

2002 NAICS codes | 2002 NAICS industry titles
Aircraft Specialized Industry
332912 | Fluid power valve and hose fitting manufacturing.
336411 | Aircraft manufacturing.
336412 | Aircraft engine and engine parts manufacturing.
336413 | Other aircraft part and auxiliary equipment manufacturing.
336415 | Guided missile and space vehicle propulsion unit and propulsion unit parts manufacturing.
336419 | Other guided missile and space vehicle parts and auxiliary equipment manufacturing.
4811 | Scheduled air transportation.
4812 | Nonscheduled air transportation.
4879 | Scenic and sightseeing transportation, other.
4881 | Support activities for air transportation.
4921 | Couriers.
54171 | Research and development in the physical, engineering, and life sciences.
56172 | Janitorial services.
62191 | Ambulance services.
81142 | Reupholstery and furniture repair.
Ammunition Specialized Industry
32592 | Explosives manufacturing.
332992 | Small arms ammunition manufacturing.
332993 | Ammunition (except small arms) manufacturing.
Artillery and Combat Vehicles Specialized Industry
2211 | Electric power generation, transmission, and distribution.
2212 | Natural gas distribution.
32732 | Ready-mix concrete manufacturing.
332212 | Hand and edge tool manufacturing.
332323 | Ornamental and architectural metal work manufacturing.
332439 | Other metal container manufacturing.
332995 | Other ordnance and accessories manufacturing.
332999 | All other miscellaneous fabricated metal product manufacturing.
33311 | Agricultural implement manufacturing.
33312 | Construction machinery manufacturing.
333611 | Turbine and turbine generator set units manufacturing.
333618 | Other engine equipment manufacturing.
333922 | Conveyor and conveying equipment manufacturing.
333923 | Overhead traveling crane, hoist, and monorail system manufacturing.
333924 | Industrial truck, tractor, trailer, and stacker machinery manufacturing.
3361 | Motor vehicle manufacturing.
336211 | Motor vehicle body manufacturing.
336212 | Truck trailer manufacturing.
336312 | Gasoline engine and engine parts manufacturing.
336322 | Other motor vehicle electrical and electronic equipment manufacturing.
33633 | Motor vehicle steering and suspension components (except spring) manufacturing.
33634 | Motor vehicle brake system manufacturing.
33635 | Motor vehicle transmission and power train parts manufacturing.
336399 | All other motor vehicle parts manufacturing.
33651 | Railroad rolling stock manufacturing.
336992 | Military armored vehicle, tank, and tank component manufacturing.
4231 | Motor vehicle and motor vehicle parts and supplies merchant wholesalers.
42381 | Construction and mining (except oil well) machinery and equipment merchant wholesalers.
42382 | Farm and garden machinery and equipment merchant wholesalers.
4413 | Automotive parts, accessories, and tire stores.
44421 | Outdoor power equipment stores.
484 | Truck transportation.
4862 | Pipeline transportation of natural gas.
492 | Couriers and messengers.
5171 | Wired telecommunications carriers.
5172 | Wireless telecommunications carriers (except satellite).
5173 | Telecommunications resellers.
5621 | Waste collection.
81299 | All other personal services.
Communications Specialized Industry
33422 | Radio and television broadcasting and wireless communications equipment manufacturing.
33429 | Other communications equipment manufacturing.
334511 | Search, detection, navigation, guidance, aeronautical and nautical system and instrument manufacturing.
334514 | Totalizing fluid meter and counting device manufacturing.
334515 | Instrument manufacturing for measuring and testing electricity and electrical signals.
335311 | Power, distribution, and specialty transformer manufacturing.
48531 | Taxi service.
5151 | Radio and television broadcasting.
5152 | Cable and other subscription programming.
5171 | Wired telecommunications carriers.
5172 | Wireless telecommunications carriers (except satellite).
5173 | Telecommunications resellers.
5174 | Satellite telecommunications.
5175 | Cable and other program distribution.
5179 | Other telecommunications.
Electronics Specialized Industry
3341 | Computer and peripheral equipment manufacturing.
33422 | Radio and television broadcasting and wireless communications equipment manufacturing.
33429 | Other communications equipment manufacturing.
33431 | Audio and video equipment manufacturing.
334412 | Bare printed circuit board manufacturing.
334413 | Semiconductor and related device manufacturing.
334414 | Electronic capacitor manufacturing.
334415 | Electronic resistor manufacturing.
334416 | Electronic coil, transformer, and other inductor manufacturing.
334417 | Electronic connector manufacturing.
334418 | Printed circuit assembly (electronic assembly) manufacturing.
334419 | Other electronic component manufacturing.
334511 | Search, detection, navigation, guidance, aeronautical and nautical system and instrument manufacturing.
334613 | Magnetic and optical recording media manufacturing.
42342 | Office equipment merchant wholesalers.
42343 | Computer and computer peripheral equipment and software merchant wholesalers.
Guided Missiles Specialized Industry
332912 | Fluid power valve and hose fitting manufacturing.
3341 | Computer and peripheral equipment manufacturing.
33422 | Radio and television broadcasting and wireless communications equipment manufacturing.
33429 | Other communications equipment manufacturing.
334418 | Printed circuit assembly (electronic assembly) manufacturing.
334511 | Search, detection, navigation, guidance, aeronautical and nautical system and instrument manufacturing.
334613 | Magnetic and optical recording media manufacturing.
3364 | Aerospace product and parts manufacturing.
54131 | Architectural services.
54133 | Engineering services.
54136 | Geophysical surveying and mapping services.
54137 | Surveying and mapping (except geophysical) services.
54171 | Research and development in the physical, engineering, and life sciences.
Heavy Duty Equipment Specialized Industry
332439 | Other metal container manufacturing.
332999 | All other miscellaneous fabricated metal product manufacturing.
33312 | Construction machinery manufacturing.
333923 | Overhead traveling crane, hoist, and monorail system manufacturing.
333924 | Industrial truck, tractor, trailer, and stacker machinery manufacturing.
33651 | Railroad rolling stock manufacturing.
42381 | Construction and mining (except oil well) machinery and equipment merchant wholesalers.
Shipbuilding Specialized Industry
336611 | Ship building and repairing.
48839 | Other support activities for water transportation.
Sighting and Fire Control Equipment Specialized Industry
333314 | Optical instrument and lens manufacturing.
3341 | Computer and peripheral equipment manufacturing.
33422 | Radio and television broadcasting and wireless communications equipment manufacturing.
33429 | Other communications equipment manufacturing.
334418 | Printed circuit assembly (electronic assembly) manufacturing.
334511 | Search, detection, navigation, guidance, aeronautical and nautical system and instrument manufacturing.
334613 | Magnetic and optical recording media manufacturing.
Small Arms Specialized Industry
332994 | Small arms manufacturing.

(b) For wage surveys involving the specialized Federal industry “Artillery and Combat Vehicles” in paragraph (a) of this section, the lead agency must limit special job coverage for industries in NAICS codes 2211, 2212, 32732, 484, 4862, 5621, 492, 5171, 5172, and 5173 to automotive mechanic, diesel engine mechanic, and heavy mobile equipment mechanic.

(c) For nonappropriated fund wage surveys, the lead agency must use NAICS codes 71111, 7221, 7222, 72231, 72232, and 7224 (eating and drinking places) when it determines a wage schedule for a specialized industry.

[FR Doc. E6-9667 Filed 6-19-06; 8:45 am]

BILLING CODE 6325-39-P